DEPARTMENT OF HEALTH AND HUMAN SERVICES

42 CFR Part 37

[Docket No. CDC-2014-0011; NIOSH-276]

RIN 0920-AA57

Specifications for Medical Examinations of Coal Miners

AGENCY: Centers for Disease Control and Prevention, HHS.

ACTION: Interim final rule; correction.

SUMMARY: On August 4, 2014, the Department of Health and Human Services (HHS) published an interim final rule to amend its regulations to establish standards for the approval of facilities that conduct spirometry examinations and to require that all coal mine operators submit a plan for the provision of spirometry and X-ray examinations to all surface and underground coal miners. The title of Part 37 was not properly amended to reflect the application of these provisions to all coal miners, including miners who work in or at surface coal mines, and not only underground coal miners.

DATES: Effective September 16, 2014, and applicable beginning August 4, 2014.

FOR FURTHER INFORMATION CONTACT: A. Scott Laney, Research Epidemiologist, Division of Respiratory Disease Studies, NIOSH, Centers for Disease Control and Prevention, 1095 Willowdale Road, MS HG900.2, Morgantown, WV 26505-2888; (304) 285-5754 (this is not a toll-free number); alaney@cdc.gov.

SUPPLEMENTARY INFORMATION: On August 4, 2014, HHS published an interim final rule in the Federal Register to amend its regulations in 42 CFR Part 37 to establish standards for the approval of facilities that conduct spirometry examinations and to require that all coal mine operators submit a plan for the provision of spirometry and X-ray examinations to all surface and underground coal miners [79 FR 45110]. Because it lacked a specific amendment doing so, the interim final rule did not revise the part 37 heading to reflect the application of these provisions to all coal miners, including miners who work in or at surface coal mines, and not only underground coal miners. This correction revises the heading to 42 CFR part 37.

List of Subjects in 42 CFR Part 37

Health care, Lung diseases, Medical research, Mine safety and health, Miners.

For reasons discussed in the preamble, HHS amends 42 CFR part 37 by making the following correcting amendment:

PART 37—SPECIFICATIONS FOR MEDICAL EXAMINATIONS OF COAL MINERS

1. The authority citation for part 37 continues to read as follows:

Authority: Sec. 203, 83 Stat. 763; 30 U.S.C. 843, unless otherwise noted.

2. The heading for part 37 is revised to read as set forth above.

Dated: September 10, 2014.
C'Reda Weeden,
Executive Secretary to the Department, Department of Health and Human Services.

[FR Doc. 2014-22032 Filed 9-15-14; 8:45 am]

BILLING CODE 4163-18-P